PEACE CORPS

Proposed Peace Corps Information Quality Guidelines

AGENCY: Peace Corps.

ACTION: Proposed guidelines.

SUMMARY: These proposed information quality guidelines are required by law and are intended to ensure and maximize the quality of information disseminated to the public by the Peace Corps. The guidelines are based on those issued by the Office of Management and Budget (OMB) on January 3, 2002 (67 FR 369-378), as corrected and reprinted on February 22, 2002 (67 FR 8451-8460). The guidelines set out the Agency's policies and procedures for ensuring the quality (objectivity, utility, and integrity) of information provided to the public. The guidelines also establish administrative mechanisms permitting affected persons to seek and obtain, where appropriate, timely correction of information maintained and disseminated by the Agency that does not comply with the OMB or its own guidelines. These guidelines represent Agency policy and procedures and have no legal effect and do not create any legal rights or obligations.

DATES: Public comment is requested on the guidelines. Comments must be received September 20, 2002.

ADDRESSES: Comments should be submitted to Suzanne B. Glasow, Associate General Counsel, Office of the General Counsel, 1111 20th Street NW., Washington, DC 20526.

FOR FURTHER INFORMATION CONTACT: Suzanne B. Glasow, Associate General Counsel, 202-692-2150.

SUPPLEMENTARY INFORMATION: OMB issued guidelines on January 3, 2002 (67 FR 369-378), as corrected and reprinted on February 22, 2002 (67 FR 8451-8460), to implement Section 515 of the Treasury and General Government Appropriations Act for FY 2001) Public Law 106-554, HR 5658). Section 515 and the OMB Guidelines require each federal agency subject to the Paperwork Reduction Act to issue its own guidelines that provide policies and procedures used by the Agency to ensure the objectivity, utility, and integrity of information disseminated by the Agency. The guidelines must also establish administrative mechanisms allowing affected persons to obtain correction of information disseminated to the public that does not comply with the OMB and Agency guidelines. The Peace Corps requests public comment on these proposed guidelines.

Guidelines for Ensuring and Maximizing the Quality of Information Prior to Public Dissemination

Section I Purpose

These guidelines are intended to set out the Agency's procedures for ensuring the quality of information it disseminates to the public.

Section II Definitions

1. “Affected persons” are those who may directly benefit or be harmed by the disseminated information, including: (a) Persons seeking to address information about themselves or about the persons to whom they are directly related or publicly associated; and (b) persons that may reasonably be expected to experience significant adverse impact to their financial interests as a result of the information deficiency.

2. “Dissemination” means the distribution of information initiated or sponsored by the Peace Corps to the general public within the United States. Dissemination does not include distribution of information or other materials that are:

(a) Intended for government employees, including Peace Corps employees and Volunteers, or government contractors or grantees (for example: directories, staffing information, internal manuals; cables);

(b) Intended for U.S. Government agencies;

(c) Produced in response to requests for agency records under the Freedom of Information Act, the Privacy Act, the Federal Advisory Committee Act or similar laws;

(d) Correspondence or other communications limited to individuals (examples include questions or concerns about individual passports, visas, adoptions, missing persons, applications for employment, or federal benefits) or to other persons, as defined in this section;

(e) Distributed to the pass as a summary of a recent event or Peace Corps action;

(f) Archival records; public filings; responses to subpoenas or compulsory document productions; or

(g) Documents prepared and released in the context of adjudicative processes. (These guidelines do not impose any additional requirements on agencies during adjudicative proceedings and do not provide parties to such adjudicative proceedings any additional rights of challenge or appeal.)

3. “Influential,” when used in the phrase “influential scientific, financial, or statistical information,” refers to a narrow category of information with respect to which an agency can reasonably determine that dissemination will have a clear and substantial impact on important public policies or important private sector decisions. To be considered influential, information must be based on objective and quantifiable data that constitute a principal basis for substantive policy positions adopted by the Peace Corps. Any influential information to be disseminated by the Peace Corps is reviewed for quality by the Agency, or another agency within the federal government, depending on who is primarily responsible for developing such information. Where circumstances deem it appropriate, the Agency may include the identity of the federal government agency or international organization originating any cited influential information in information disseminated by the Peace Corps.

4. “Information,” for purposes of these guidelines, means any communication or representation of knowledge, such as facts or data, in any medium or form, including textual, numerical, graphic, cartographic, narrative, or audiovisual forms. This definition includes information that Peace Corps disseminates on the Agency's external web page, but does not include the provision of hyperlinks to information that others disseminate. “Information” does not include:

(a) Statements on foreign policy or that might cause harm to the national security;

(b) Information originated by, and attributed to, non-Peace Corps sources, provided the Peace Corps does not expressly rely on it;

(c) Opinions, where the Agency's presentation makes it clear that what is being offered is someone's opinion rather than fact or the Agency's views;

(d) Statements related solely to the internal personnel rules and practices of the Peace Corps or materials produced for Peace Corps employees, contractors, Volunteers, agents or alumni;

(e) Descriptions of the Peace Corps, its responsibilities and its organizational components;

(f) Testimony of Peace Corps officials before courts, administrative bodies, or Congress;

(g) Investigatory material complied pursuant to U.S. law or for law enforcement purposes in the United States or abroad; or

(h) Statements which are, or which reasonably may be expected to become, the subject of litigation, whether before a U.S. or foreign court or in an international arbitral or other dispute resolution proceeding.

5. “Integrity” refers to the security of information, that is, the protection of the information from unauthorized access, revision, corruption, or falsification.

6. “Objectivity” addresses whether disseminated information is being presented in an accurate, clear, complete, and unbiased manner, including background information where warranted by the circumstances.

7. “Person” means an individual, an organization, or a State or local government or division thereof.

8. “Quality” is an umbrella term comprising the terms “utility,” “objectivity,” and “integrity.”

9. “Utility” refers to the usefulness of the information to its intended users.

Section III Procedures To Ensure the Quality of Information

The Peace Corps is committed to providing the public with reliable and useful information. To meet this goal, the Agency collects information from as many reasonably available and reliable sources as appropriate and subjects draft information intended for public dissemination to a thorough review process. Quality control procedures apply at all stages of the information lifecycle, including the times of creation, collection, maintenance, and dissemination.

A. Objectivity and Utility of Information

1. The office collecting and drafting information intended for public dissemination has the primary responsibility to follow quality control procedures, pursuing the most knowledgeable and reliable sources reasonably available through the Agency's resources and by confirming the objectivity and utility of information internally within the office, with all interested Agency offices, and with other government agencies, when appropriate.

2. The Agency's quality control system for information dissemination is based generally on the “action” and “clearance” processes. The action process constitutes the work done by the office responsible for the product. The “clearance” process involves the review of the product by offices who are authorized to provide clearance and approval of the product. This dual process places responsibility for action upon a particular office while ensuring that the information and opinions of other offices are brought to bear on the proposed action.

3. The action office should assign an action to an “action officer,” typically the principal drafter. The action officer will follow any office specific quality review procedures and consult informally with officers in other interested offices before preparing the information. The action officer's role includes:

(a) Preparing an action document after consulting the necessary materials and people, including government and non-government sources, as appropriate;

(b) Determining clearance points;

(c) Making the initial determination as to where the final decision shall be made;

(d) Obtaining clearances and approvals; and

(e) Overcoming delays and, if necessary, presenting the matter to higher authority.

4. Clearances or approvals of information for dissemination are generally obtained from any office within the Peace Corps or any other agency within the federal government that has a substantive interest in the information. If an office designated for clearance disagrees with the information and differences cannot be resolved at that level, the matter is raised to an Agency official at a higher level.

5. Action officers may also seek advice from other offices having a collateral interest in the subject matter of the information. Offices with collateral interests are offices whose field of responsibility is not vitally affected by the proposed action, but they may have useful information or views to contribute. Clearances from such offices are not required.

6. Where there are differences in views within the Agency concerning proposed information, the differences are generally documented and explained to offices asked to clear or approve the document. After reasonable efforts have been made to resolve any substantive differences, superior officers are informed of the dissenting views and made the necessary decisions. Final clearance of all publications developed for public dissemination must be cleared by the Senior Publications Manager.

7. While the “action” and “clearance” processes are general requirements for a range of information dissemination actions, there are specific requirements for certain categories of information dissemination. For example, information disseminated on the Agency's external web site must be cleared by the Agency's Internet Communications Director. Information disseminated on the Agency's internal web site must be cleared by the Agency's Intranet Manager.

8. The quality of the Agency's disseminated information is also controlled by limits on who may speak on behalf of the Agency. The Agency's Director of Communications has been delegated authority to speak on behalf of the Peace Corps.

9. When the Agency disseminates reports or other statements, it seeks input from multiple qualified and expert sources The Agency also attempts to corroborate all information received. In instances where statements cannot be corroborated adequately, those statements are accompanied by attribution to the source, wherever practicable, to assist the reader in assessing their credibility. Where the Agency disseminates conclusions on an issue, effort is made to identify the facts or events upon which the conclusions are based, to the extent appropriate.

B. Integrity of Information

1. “Integrity” refers to the security of information (paper, electronic and other forms), including the protection of the information from unauthorized access, revision, or from being compromised through corruption or falsification.

2. The security of electronic information is the responsibility of the Chief Information Officer (CIO) who approves new policies, oversees security operations related to Agency-wide information resources, management, and systems, and engages in policy development and planning.

3. Within the Agency, the Information Technology (IT) security program gives every Agency staff member general responsibility for the security of the IT systems they use. Technology implementers and the Agency's senior staff are assigned more explicit responsibilities. The IT Security Program Manager's role includes developing and maintaining an information security program, promoting effective implementation and maintenance of information security policies and procedures, controlling techniques throughout the Agency, and training, overseeing and assisting Agency personnel with significant information security related responsibilities. Under the CIO, the Agency develops, implements, and maintains new computer software and hardware systems and provides operational support for systems and system users.

4. Assisted by the IT Security Program Manager, office directors and program managers are primarily responsible and accountable for the integrity of information within their offices. On a day-to-day basis, the responsibilities are carried out by the managers of networks, systems and applications. These technical personnel assess and manage the information security risks associated with the operations and assets for programs and systems within their control. In that capacity, the technical personnel determine the levels of information security appropriate to protect such operations and assets and periodically test and evaluate information security controls and techniques.

5. The security of paper and other forms of information, other than electronic information, is the responsibility of the Director of Security.

Section IV Requests for Correction of Information

The Peace Corps works to be responsive to users of its information and to improve its information products. The procedures set out in this section are available to “affected” persons who seek to correct information publicly disseminated by the Peace Corps and apply to information disseminated by the Peace Corps on or after October 1, 2002.

1. Persons seeking to correct information publicly disseminated by the Peace Corps must send a written request to the Senior Publications Manager, Office of the Director, 1111 20th Street, NW., Washington, DC 20526.

2. Requests for correction are presumed timely if submitted within sixty (60) days of the dissemination date of the information being challenged.

3. Requests will be assigned a reference number and a notice of receipt of the request will be sent to the requester.

4 The reviewing office will give the request due consideration, including a review of the disseminated information at issue and other materials, as appropriate.

5. In determining whether a response to the request for correction is appropriate, the reviewing office shall consider the following factors:

(a) Whether the statements challenged by the requester fall within the scope of “information” that has been disseminated by the Agency, as those terms are defined in these guidelines;

(b) Whether the requester is “affected” by the information at issue, as that term is defined in these guidelines;

(c) The importance of the formations involved; and

(d) The nature and extent of the request and the public benefit of making the requested correction.

6. A request will not be considered if the Agency determines:

(a) It is not submitted by an “affected” person, as that term is defined in these guidelines;

(b) It does not involve the correction of information publicly disseminated by the Peace Corps;

(c) It is not timely; or

(d) Consideration of the request would not advance material interests of the requester, the general public, or the Peace Corps.

7. Where the reviewing office determines that the information publicly disseminated by the Agency was incorrect, it may take corrective measures, as appropriate, recognizing the potential implications for the requester, the United States, and the Agency, without disrupting Agency process.

8. Where the Agency determines that a response under these guidelines is not appropriate, it will so advise the requester.

9. In most cases, where response under these guidelines is appropriate, the Agency will respond within sixty (60) days of request. The requester will be notified if additional time is required. Agency responses will describe the disposition of the request, the reasons for the disposition, and any corrective action taken or pending.

10. Subject to applicable law, rules or regulations, notice of corrective measures may include, but are not limited to, personal contacts via letter, press releases, or posting on the Agency's website. Notice of corrective measures, where appropriate, should be designed to provide reasonable notice to all affected persons.

Section V Procedures for Requesting Reconsideration

1. An affected person who received notice from the Agency of the disposition of his or her request under Section IV of these guidelines, may request consideration of the disposition, unless the disposition was a determination that a response to the request was not appropriate.

2. To request reconsideration, the requester shall make the request in writing to the Director of the Peace Corps, and include a copy of original request for correction previously submitted to the Agency. The request for reconsideration shall be sent to the Office of the Director, 1111 20th Street, NW., Washington, DC 20526. Requests for Reconsideration must be submitted within thirty (30) days of the date of the Agency's disposition notification to the requester.

3. Requests for Reconsideration shall be reviewed by the Director or designee. The Director or designee shall apply the same standards and procedures applicable to the original request for correction.

4. The Agency will generally respond within sixty (60) days of receipt of the request. The requester will be informed of the disposition of the request and reasonable notice shall be given affected persons of any corrective actions taken. The decision shall constitute a final action by the Agency.

Dated: August 15, 2002.
Tyler S. Posey,
General Counsel.

[FR Doc. 02-21304 Filed 8-20-02; 8:45 am]

BILLING CODE 6015-01-M